DEPARTMENT OF AGRICULTURE

Rural Utilities Service

Georgia Transmission Corporation: Notice of Intent To Prepare an Environmental Assessment and To Hold Public Scoping Meetings

AGENCY: Rural Utilities Service, USDA.

ACTION: Notice of Intent to prepare an Environmental Assessment and Hold Public Scoping Meetings.

SUMMARY: The Rural Utilities Service (RUS) intends to prepare an Environmental Assessment (EA) and hold public scoping meetings and to meet its responsibilities under the National Environmental Policy Act (NEPA), the Council on Environmental Quality's regulations for implementing NEPA (40 CFR parts 1500-1508), and RUS's Environmental and Policies and Procedures (7 CFR part 1794) in connection with potential impacts related to a proposal by Georgia Transmission Corporation (GTC). The proposal consists of constructing approximately 40 to 45 miles of 230 kilovolt (kV) transmission line in portions of Atkinson, Berrien, Clinch, Coffee, and Lanier Counties, Georgia. GTC is requesting that RUS provide financial assistance for the proposal.

DATES: RUS will conduct two public scoping meetings in an open-house format on: Wednesday, September 26, 2012, from 3 to 7 p.m. at: the Holiday Inn Express Conference Room, 1636 South Peterson Ave., Douglas, Georgia 31534. Thursday, September 27, 2012, from 6 to 8 p.m. at: The Threatte Center, 209 South Highway 221, Lakeland, Georgia 31635. Representatives from RUS and GTC will be available at the meetings to discuss the environmental review process, the proposal, and the scope of environmental issues currently under consideration. Written comments regarding the proposal may be submitted at the public scoping meetings or by October 29, 2012, to the RUS address provided in this Notice.

ADDRESSES: To send comments or for further information, please contact Ms. Lauren McGee, Environmental Scientist, USDA Rural Utilities Service, P.O. Box 776, Haw River, North Carolina 27258-0776, telephone: (202) 695-2540, fax: (202) 690-0649, or email: lauren.mcgee@wdc.usda.gov.

An Alternatives Evaluation and Macro Corridor Study, which discusses the purpose and need for the proposal and the alternatives considered in the proposal's development, is available for public review at the following RUS Web site: http://www.rurdev.usda.gov/UWP-EA-DouglasLakelanGA.html; at GTC's headquarters office at: 2100 East Exchange Place, Tucker, Georgia 30084; and at the following repositories: Douglas/Coffee County Public Library, South Madison Ave., Douglas, Georgia 31533; Pearson Public Library, 56 East Bullard Ave., Pearson, Georgia 31642; Willacoochee Public Library, 165 East Fleetwood Ave., Willacoochee, Georgia 31650; and W.L. Miller Memorial Library, 124 South Valdosta Road, Lakeland, Georgia 31635.

SUPPLEMENTARY INFORMATION: GTC proposes to construct approximately 40 to 45 miles of 230 kV electric transmission line from the existing Douglas 115/230 kV Substation on the northwest side of the City of Douglas in Coffee County, Georgia, to an existing transmission line corridor north of the City of Lakeland in Lanier County, Georgia. In general, the project area is located in the Coastal Plains of South Georgia, east of Interstate 75 and northeast of the City of Valdosta. Proposal activities include acquisition of a 100 foot easement or right-of-way (ROW) within which the line would be sited. GTC anticipates using mostly single pole structures. Construction and line maintenance activities mostly would remain within the transmission line easement with access to the line from public ROW. Some construction activities may require stream and wetland crossings. GTC's proposal is one piece of the proposed Douglas-Pine Grove Plan (i.e., the preferred electrical solution). Four other connected actions, which will be constructed by other utilities, will be addressed in the proposed project's EA.

Among the alternatives that RUS will address in the EA is the No Action alternative, under which the proposal would not be undertaken. In the EA, the effects of the proposal will be compared to the existing conditions in the project area. Public health and safety, environmental impacts, and engineering aspects of the proposal will be considered in the EA.

RUS is the lead federal agency, as defined at 40 CFR 1501.5, for preparation of the EA. With this Notice, federally recognized Native American Tribes and Federal agencies with jurisdiction or special expertise are invited to be cooperating agencies. Such tribes or agencies may make a request to RUS to be a cooperating agency by contacting the RUS contact provided in this Notice. Designated cooperating agencies have certain responsibilities to support the NEPA process, as specified at 40 CFR 1501.6(b).

As part of its broad environmental review process, RUS must take into account the effect of the proposal on historic properties in accordance with Section 106 of the National Historic Preservation Act (Section 106) and its implementing regulation, “Protection of Historic Properties” (36 CFR part 800). Pursuant to 36 CFR 800.2(d)(3), RUS is using its procedures for public involvement under NEPA to meet its responsibilities to solicit and consider the views of the public during Section 106 review. Accordingly, comments submitted in response to scoping will inform RUS decision-making in its Section 106 review process. Any party wishing to participate more directly with RUS as a “consulting party” in Section 106 review may submit a written request to the RUS contact provided in this Notice.

RUS will use input provided by government agencies, private organizations, and the public in the preparation of the EA. The EA will be available for review and comment for 30 days. If RUS finds, based on the EA, that the proposal will not have a significant effect on the quality of the human environment, RUS will prepare a Finding of No Significant Impact (FONSI). Notification of the EA and FONSI will be published in the Federal Register and in newspapers with circulation in the proposal's area. If substantive comments are received on the EA, RUS may provide an additional period (15 days) for public review following the publication of its FONSI. When appropriate to carry out the purposes of NEPA, RUS may impose, on a case-by-case basis, additional requirements associated with the preparation of an EA. If at any point in the preparation of an EA and review of comments, RUS determines that the proposal will have a significant effect on the quality of the human environment, the preparation of an Environmental Impact Statement will be required.

Any final action by RUS related to the proposal will be subject to, and contingent upon, compliance with all relevant executive orders and federal, state, and local environmental laws and regulations in addition to the completion of the environmental review requirements as prescribed in RUS's Environmental Policies and Procedures, 7 CFR part 1794, as amended.

Dated: September 6, 2012.
Jon Melhus,
Acting Director, Engineering and Environmental Staff, USDA, Rural Utilities Service.

[FR Doc. 2012-23018 Filed 9-18-12; 8:45 am]

BILLING CODE P